DEPARTMENT OF ENERGY

Federal Energy Regulatory Commission

Combined Notice of Filings #2

Take notice that the Commission received the following electric rate filings:

Docket Numbers: ER10-1801-003: ER10-2370-002; ER10-1805-004; ER10-1808-004.

Applicants: The Connecticut Light and Power Company, NSTAR Electric Company, Public Service Company of New Hampshire, Western Massachusetts Electric Company.

Description: Updated Market Power Analysis for Northeast Region of the Eversource Companies.

Filed Date: 12/27/16.

Accession Number: 20161227-5164.

Comments Due: 5 p.m. ET 2/27/17.

Docket Numbers: ER10-2010-005; ER10-1714-008.

Applicants: PPL Electric Utilities Corporation, LG&E Energy Marketing Inc.

Description: Triennial Market Power Update of the PPL Northeast Companies.

Filed Date: 12/27/16.

Accession Number: 20161227-5161.

Comments Due: 5 p.m. ET 2/27/17.

Docket Numbers: ER10-2607-004; ER10-2626-003.

Applicants: Old Dominion Electric Cooperative, Inc., TEC Trading, Inc.

Description: Updated Market Power Analyses in Northeast Region of the ODEC Entities.

Filed Date: 12/23/16.

Accession Number: 20161223-5355.

Comments Due: 5 p.m. ET 2/21/17.

Docket Numbers: ER11-47-007; ER10-2981-007; ER11-41-007; ER11-46-010; ER12-1540-005; ER12-1541-005; ER12-1542-005; ER12-1544-005; ER12-2343-005; ER13-1896-011; ER14-2475-004; ER14-2476-004; ER14-2477-004; ER14-594-009; ER16-323-003.

Applicants: Appalachian Power Company, Indiana Michigan Power Company, Kentucky Power Company, Kingsport Power Company, Wheeling Power Company, AEP Texas Central Company, AEP Texas North Company, Public Service Company of Oklahoma, Southwestern Electric Power Company, Ohio Power Company, AEP Energy Partners, Inc., AEP Retail Energy Partners LLC, AEP Energy, Inc., AEP Generation Resources Inc., Ohio Valley Electric Corporation.

Description: Updated Market Power Analysis in the PJM balancing area authority of the AEP MBR Companies.

Filed Date: 12/27/16.

Accession Number: 20161227-5162.

Comments Due: 5 p.m. ET 2/27/17.

Docket Numbers: ER17-685-000.

Applicants: PJM Interconnection, L.L.C.

Description: § 205(d) Rate Filing: Queue #Y1-077, First Revised Service Agreement No. 3645 to be effective11/28/2016.

Filed Date: 12/28/16.

Accession Number: 20161228-5081.

Comments Due: 5 p.m. ET 1/18/17.

Docket Numbers: ER17-686-000.

Applicants: Midcontinent Independent System Operator, Inc.

Description: § 205(d) Rate Filing: 2016-12-28_MISO Transmission Owners Agreement and Bylaw Revisions to be effective 2/27/2017.

Filed Date: 12/28/16.

Accession Number: 20161228-5083.

Comments Due: 5 p.m. ET 1/18/17.

Docket Numbers: ER17-687-000.

Applicants: NRG Wholesale Generation LP.

Description: Tariff Cancellation: Notice of Termination for Rate Schedule FERC No. 5 to be effective 7/12/2016.

Filed Date: 12/28/16.

Accession Number: 20161228-5091.

Comments Due: 5 p.m. ET 1/18/17.

Docket Numbers: ER17-688-000.

Applicants: NRG Wholesale Generation LP.

Description: Tariff Cancellation: Notice of Termination for FERC Electric Tariff, Original Volume No. 7 to be effective 3/1/2016.

Filed Date: 12/28/16.

Accession Number: 20161228-5092.

Comments Due: 5 p.m. ET 1/18/17.

Docket Numbers: ER17-689-000.

Applicants: NRG Wholesale Generation LP.

Description: Tariff Cancellation: Notice of Termination for Rate Schedule FERC No. 8 to be effective 2/2/2016.

Filed Date: 12/28/16.

Accession Number: 20161228-5093.

Comments Due: 5 p.m. ET 1/18/17.

Docket Numbers: ER17-690-000.

Applicants: Midcontinent Independent System Operator, Inc.

Description: § 205(d) Rate Filing: 2016-12-28_SA 2983 Entergy Louisiana-Entergy Louisiana GIA (J396) to be effective 12/29/2016.

Filed Date: 12/28/16.

Accession Number: 20161228-5102.

Comments Due: 5 p.m. ET 1/18/17.

Docket Numbers: ER17-691-000.

Applicants: Midcontinent Independent System Operator, Inc., ITC Midwest LLC.

Description: § 205(d) Rate Filing: 2016-12-28_SA 2883 ITC Midwest-MidAmerican 1st Rev FSA (H009) to be effective 1/1/2017.

Filed Date: 12/28/16.

Accession Number: 20161228-5104.

Comments Due: 5 p.m. ET 1/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2016.
Nathaniel J. Davis, Sr.,
Deputy Secretary.

[FR Doc. 2016-31881 Filed 1-3-17; 8:45 am]

BILLING CODE 6717-01-P